DEPARTMENT OF AGRICULTURE

Agricultural Marketing Service

7 CFR Part 205

[Doc. No. AMS-NOP-22-0063]

RIN 0581-AE13

National Organic Program; Market Development for Mushrooms and Pet Food

AGENCY: Agricultural Marketing Service, USDA.

ACTION: Final rule; delay of effective date.

SUMMARY: This document delays the effective date of the December 23, 2024, final rule that amended USDA's organic regulations to clarify standards for organic mushrooms and organic pet food. The topics addressed by the rule include mushroom substrate composition and sourcing of mushroom spawn in organic mushroom production; composting requirements for organic mushroom production; composition and labeling requirements for organic pet food; and the use of certain synthetic substances, including taurine, in organic pet food.

DATES:

Effective date: As of February 10, 2025, the effective date of the final rule amending 7 CFR part 205, published on December 23, 2024 (89 FR 104367), is delayed until March 21, 2025.

Compliance Date: Organic operations must comply with the requirements of this rule by March 22, 2027.

FOR FURTHER INFORMATION CONTACT: Erin Healy, Director, Standards Division, National Organic Program. Telephone: 202-720-3252. Email: Erin.Healy@usda.gov.

SUPPLEMENTARY INFORMATION: In accordance with the memorandum of January 20, 2025, from the President to executive departments and agencies, entitled “Regulatory Freeze Pending Review,” ¹ this document temporarily delays the effective date of the rule titled, “National Organic Program; Market Development for Mushrooms and Pet Food,” which was published in the Federal Register on December 23, 2024 (89 FR 104367). The rule amended the USDA organic regulations to clarify standards for organic mushrooms and organic pet food. The topics addressed by the rule include mushroom substrate composition and sourcing of mushroom spawn in organic mushroom production; composting requirements for organic mushroom production; composition and labeling requirements for organic pet food; and the use of certain synthetic substances, including taurine, in organic pet food.

¹ https://www.whitehouse.gov/presidential-actions/2025/01/regulatory-freeze-pending-review/.

This action is exempt from notice and comment under 5 U.S.C. 553 and is applicable immediately upon publication in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication.

Erin Morris,
Associate Administrator, Agricultural Marketing Service.

[FR Doc. 2025-02411 Filed 2-6-25; 8:45 am]

BILLING CODE P